DEPARTMENT OF COMMERCE

National Oceanic and Atmospheric Administration

RIN 0648-XF158

Endangered Species; File No. 19508

AGENCY: National Marine Fisheries Service (NMFS), National Oceanic and Atmospheric Administration (NOAA), Commerce.

ACTION: Notice; receipt of application.

SUMMARY: Notice is hereby given that Katherine Mansfield, Ph.D., University of Central Florida, 4000 Central Florida Boulevard, Building 20, BIO301, Orlando, FL 32825, has applied in due form for a permit to take loggerhead (Caretta caretta), Kemp's ridley (Lepidochelys kempii), green (Chelonia mydas), hawksbill (Eretmochelys imbricata) and leatherback (Dermochelys coraicea) sea turtles for purposes of scientific research.

DATES: Written, telefaxed, or email comments must be received on or before February 16, 2017.

ADDRESSES: The application and related documents are available for review by selecting “Records Open for Public Comment” from the “Features” box on the Applications and Permits for Protected Species (APPS) home page, https://apps.nmfs.noaa.gov, and then selecting File No. 19508 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to examine patterns and trends in the abundance, distribution, movements, foraging ecology, and population structure of sea turtles. Research would occur in three study areas: (1) Indian River Lagoon, Florida; (2) Trident Turning Basin, Cape Canaveral, Florida; and (3) Northern and Eastern Gulf of Mexico, which includes waters up to 120 miles offshore from Louisiana to Western Florida. Researchers would capture sea turtles by tangle net, dip net, or by hand; annual requested take numbers per species vary by year and project. Sea turtles would have the following procedures performed before release: Measure, flipper tag, passive integrated transponder tag, photograph/video, gastric lavage, and scute, blood, fecal, and tissue sampling. A subset of animals would receive an epoxy-attached transmitter before release.

Dated: January 10, 2017.
Julia Harrison,
Chief, Permits and Conservation Division, Office of Protected Resources, National Marine Fisheries Service.

[FR Doc. 2017-00811 Filed 1-13-17; 8:45 am]

BILLING CODE 3510-22-P